DEPARTMENT OF ENERGY

Federal Energy Regulatory Commission

[Docket No. CP19-501-000]

Texas Eastern Transmission, LP; Notice of Request for Extension of Time

Take notice that on February 7, 2022, Texas Eastern Transmission, LP. (Texas Eastern), requested that the Federal Energy Regulatory Commission (Commission) grant an extension of time, until March 24, 2023, to complete construction of the Bailey East Mine Panel 11J Project (Project) and make the Project available for service, as authorized in the March 24, 2020 Order Issuing Certificates (Certificate Order).¹

¹ Texas Eastern Transmission, LP, 170 FERC ¶ 62,167 (2020)(Certificate Order).

Texas Eastern was granted authorization to excavate, elevate, and replace certain segments of four different natural gas transmission pipelines and appurtenant facilities, and to monitor potential strains on the pipeline sections due to anticipated longwall mining activities planned by CONSOL Energy, Inc. (CONSOL) in Marshall County, West Virginia. The Certificate Order required Texas Eastern to complete construction of the Project facilities and make them available for service by March 24, 2022.² Texas Eastern has completed the reinstallation of Lines 15 and 30 below ground and placed those lines back into service in December 2021. Due to delays in the reinstallation and hydrostatic testing of Lines 10 and 25, Texas Eastern now request an additional year, until March 24, 2023, to complete construction of the Project and place it into service.

² Certificate Order, 170 FERC ¶ 62,167 at ordering para. (D).

This notice establishes a 15-calendar day intervention and comment period deadline. Any person wishing to comment on Texas Eastern's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426.

Hand delivered submissions in docketed proceedings should be delivered to Health and Human Services, 12225 Wilkins Avenue, Rockville, Maryland 20852.

Comment Date: 5:00 p.m. Eastern Time on February 24, 2022.

Dated: February 9, 2022.
Kimberly D. Bose,
Secretary.

[FR Doc. 2022-03217 Filed 2-14-22; 8:45 am]

BILLING CODE 6717-01-P